DEPARTMENT OF VETERANS AFFAIRS

Chiropractic Advisory Committee; Notice of Meeting

The Department of Veterans Affairs (VA) gives notice under Public Law 92-463 (Federal Advisory Committee Act) that the Chiropractic Advisory Committee will meet Tuesday, March 25, 2003, from 8:30 a.m. until 5 p.m. and Wednesday, March 26, 2003, from 8:30 a.m. until 4 p.m. at the Department of Veterans Affairs Central Office, 810 Vermont Avenue NW., Room 230, Washington, DC 20420. The meeting is open to the public.

The purpose of the Committee is to provide direct assistance and advice to the Secretary of Veterans Affairs in the development and implementation of the chiropractic health program. Matters on which the Committee shall assist and advise the Secretary include protocols governing referrals to chiropractors and direct access to chiropractic care, scope of practice of chiropractic practitioners, definitions of services to be provided and such other matters as the Secretary determines to be appropriate.

On March 25, the Committee will receive an update on the status of the chiropractic occupational study and discuss the scope of chiropractic services, services to be provided in the VA chiropractic program, and protocols governing direct access and referrals to chiropractors. On March 26, the Committee will continue discussions on the items listed above and, at the end of the day, discuss the agenda for the next meeting and plan meeting dates for FY 2004.

On March 25, from 3 p.m. to 5 p.m., the Committee will provide time for oral statements from the public on the issues under discussion. Members of the public who wish to make a brief oral presentation at this meeting must contact Ms. Sara McVicker, Committee Manager, in writing via fax at (202) 273-9148 or via e-mail at sara.mcvicker@mail.va.gov no later than noon eastern time Friday, March 21, 2003, in order to have time reserved on the agenda. Requests to be scheduled for oral presentations should not be mailed via United States Postal Service due to delivery delays resulting from security measures. Opportunities for oral comments will be limited to no more than five (5) minutes per speaker and no more than 90 minutes total. Persons who wish their oral statement to become part of the Committee's records and available to the public on the Committee's internet site must submit a written or electronic copy of the statement at the time of the meeting. Persons making oral statements are requested to bring 13 copies of their statement for the Committee and an additional 20 copies for other members of the public.

Any member of the public wishing to attend the meeting is requested to contact Ms. McVicker, RN, MN, at (202) 273-8558 by noon eastern time on March 21, 2003, in order to facilitate entry to the building.

The Committee will accept written comments from interested parties on issues under discussion and other matters relating to the development and implementation of the chiropractic health program within the Veterans Health Administration. It is preferred that such comments be transmitted electronically to the Committee at sara.mcvicker@mail.va.gov or comments may be mailed to: Chiropractic Advisory Committee, Primary and Ambulatory Care SHG (112), U.S. Department of Veterans Affairs, 810 Vermont Avenue, NW., Washington, DC 20420.

Dated: February 10, 2003.
By Direction of the Secretary.
E. Philip Riggin,
Committee Management Officer.

[FR Doc. 03-3827 Filed 2-14-03; 8:45 am]

BILLING CODE 8320-01-M